NUCLEAR REGULATORY COMMISSION

[Docket Nos. 50-335 and 50-389]

St. Lucie, Units 1 and 2, Florida Power and Light Company; Notice of Availability of the Final Supplement 11 to the Generic Environmental Impact Statement Regarding License Renewal for St. Lucie, Units 1 and 2

Notice is hereby given that the U.S. Nuclear Regulatory Commission (NRC) has published a final plant-specific Supplement 11 to the Generic Environmental Impact Statement (GEIS), NUREG-1437, regarding the renewal of operating licenses DPR-67 and NPF-16 for St. Lucie, Units 1 and 2 (St. Lucie), for an additional 20 years of operation. St. Lucie is owned and operated by Florida Power and Light Company (FPL), and is located on Hutchinson Island in St. Lucie County, Florida. Possible alternatives to the proposed action (license renewal) include no action and reasonable alternative energy sources.

It is stated in Section 9.3 of the report:

Based on (1) the analysis and findings in the GEIS (NRC 1996, 1999); (2) the Environmental Report submitted by FPL (FPL 2001b); (3) consultation with Federal, State, and local agencies; (4) the staff's own independent review; and (5) the staff's consideration of public comments, the recommendation of the staff is that the Commission determine that the adverse environmental impacts of license renewal for St. Lucie Units 1 and 2 are not so great that preserving the option of license renewal for energy planning decisionmakers would be unreasonable.

The final Supplement 11 to the GEIS is available electronically for public inspection in the NRC Public Document Room (PDR) located at One White Flint North, 11555 Rockville Pike (first floor), Rockville, Maryland, or from the Publicly Available Records (PARS) component of NRC's Agencywide Documents Access and Management System (ADAMS). ADAMS is accessible from the NRC Web site at http://www.nrc.gov/reading-rm.html (the Public Electronic Reading Room). Persons who do not have access to ADAMS or who encounter problems in accessing the documents located in ADAMS, should contact the PDR reference staff at 1-800-397-4209, 301-415-4737, or by e-mail to pdr@nrc.gov.

FOR FURTHER INFORMATION, CONTACT: Dr. Michael T. Masnik, License Renewal and Environmental Impacts Program, Division of Regulatory Improvement Programs, U.S. Nuclear Regulatory Commission, Washington, DC 20555. Dr. Masnik may be contacted at 301-415-1191 or by writing to: Dr. Michael T. Masnik, U.S. Nuclear Regulatory Commission, MS O-11F1, Washington, DC 20555.

Dated at Rockville, Maryland, this 19th day of May, 2003.
For the Nuclear Regulatory Commission.
Pao-Tsin Kuo,
Program Director, License Renewal and Environmental Impacts Program, Division of Regulatory Improvement Programs, Office of Nuclear Reactor Regulation.

[FR Doc. 03-13527 Filed 5-29-03; 8:45 am]

BILLING CODE 7590-01-P